DEPARTMENT OF HEALTH AND HUMAN SERVICES

Call for Collaborating Partners for the National Bone Health Campaign

AGENCY: Department of Health and Human Services, Office of the Secretary, Office of Public Health and Science, Office on Women's Health.

ACTION: Notice.

SUMMARY: The U.S. Department of Health and Human Services (HHS), Office on Women's Health (OWH) announces its new leadership of the National Bone Health Campaign and invites public and private sector bone health- and girls' health-related organizations to participate as collaborating partners to provide advice on the development and dissemination of the campaign materials and messages.

DATES: Representatives of bone health and girls' health organizations should submit expressions of interest by June 28, 2008.

ADDRESSES: Expressions of interest, comments, and questions may be submitted by electronic mail to Calvin.Teel@hhs.gov <mailto: Calvin.Teel@hhs.gov>; or by regular mail to Calvin Teel, M.S., Public Health Advisor, Office on Women's Health, Department of Health and Human Services, 5600 Fishers Lane, Parklawn Building, Room 16A-55, Rockville, Maryland 20857, or via fax to (301) 443-1384.

FOR FURTHER INFORMATION CONTACT: Calvin Teel, M.S., Public Health Advisor, Office on Women's Health, Department of Health and Human Services, 5600 Fishers Lane, Parklawn Building, Room 16A-55, Rockville, Maryland 20857, (301) 443-4422 (telephone), (301) 443-1384 (fax).

SUPPLEMENTARY INFORMATION: The OWH was established in 1991 to improve the health of American women by advancing and coordinating a comprehensive women's health agenda throughout HHS. This program has two goals: development and implementation of model programs on women's health; and leading education, collaboration, and coordination on women's health. The program fulfills its mission through competitive contracts and grants to an array of community, academic, and other organizations at the national and community levels. National educational campaigns provide information about the important steps women and girls can take to improve and maintain their health.

In addition to womenshealth.gov, OWH produces girlshealth.gov, a Web site dedicated to providing relevant, trustworthy, and commercial-free health information for girls ages 10-16. The Web site gives girls reliable information on the health issues they will face as they become young women. Under the purview of OWH, the Web site for the National Bone Health Campaign, girlshealth.gov/bones, will be accessible through the girlshealth.gov site to reach girls ages 9 to 14 with the goal of increasing calcium and vitamin D consumption and weight-bearing physical activity.

In 2004, the Surgeon General exhorted public, private, nonprofit, academic, and scientific stakeholders to increase awareness about bone health. The Surgeon General stated that, by 2020, half of all Americans older than age 50 will be at risk for fractures from osteoporosis. His report emphasized prevention of osteoporosis in adolescence through increased calcium and vitamin D consumption and weight-bearing physical activity.

Osteoporosis has been called a “pediatric disease with geriatric consequences.” Though the disease most often strikes later in life, the stage is set during adolescence, when almost one-half of the adult skeleton is formed. In addition some groups, such as those with anorexia nervosa, can develop osteoporosis much earlier. Sadly, only 15 percent of adolescent girls get enough calcium, according to the National Osteoporosis Foundation. The Surgeon General's Report also cited one study that found only half of the participants ages 12-21 exercise vigorously on a regular basis and 25 percent report no exercise at all.

The National Bone Health Campaign is intended to help girls adopt healthy habits, specifically increased calcium and vitamin D consumption and weight-bearing physical activity, to build strong bones. The campaign will plan, develop, implement, and evaluate a national social marketing campaign to increase awareness of bone-healthy habits and affect behavior change. The campaign will target the girls, their parents, and healthcare providers.

In order to implement the National Bone Health Campaign, OWH is interested in establishing partnerships with private and public bone health- and girls' health-related organizations. As partners with HHS, these health organizations can bring their ideas and expertise, administrative capabilities, and resources that are consistent with the goals of the National Bone Health Campaign.

Given the National Bone Health Campaign's objectives, entities that have similar goals and consistent interests, appropriate expertise and resources, and would like to pursue bone health awareness activities in collaboration with OWH are encouraged to reply to this notice. Working together, these partnerships will provide innovative opportunities to promote an increased national awareness of positive bone-healthy behaviors, with the end goal of increased calcium and vitamin D consumption and weight-bearing physical activity.

Dated: May 28, 2008.
Wanda K. Jones,
Deputy Assistant Secretary for Health (Women's Health).

[FR Doc. E8-12756 Filed 6-5-08; 8:45 am]

BILLING CODE 4150-33-P